DEPARTMENT OF VETERANS AFFAIRS

[OMB Control No. 2900-0654]

Agency Information Collection Activity Under OMB Review: Annual Certification of Veteran Status and Veteran-Relatives

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0654.”

FOR FURTHER INFORMATION CONTACT:

VA PRA information: Maribel Aponte, 202-461-8900, vacopaperworkreduact@va.gov.

SUPPLEMENTARY INFORMATION:

Title: Annual Certification of Veteran Status and Veteran-Relatives (VA Form 20-0344).

OMB Control Number: 2900-0654 https://www.reginfo.gov/public/do/PRASearch.

Type of Review: Revision of a currently approved collection.

Abstract: VA Form 20-0344 is necessary to ensure that benefit records of employees and employees' relatives are properly maintained in accordance with VA policy. Without the information provided on this form, VA would be unable to determine which benefit records require special handling to guard against fraud, conflict of interest, improper influence etc. by VA and non-VA employees. No changes have been made to this form. The respondent burden has decreased due to the estimated number of receivables averaged over the past year.

An agency may not conduct or sponsor, and a person is not required to respond to a collection of information unless it displays a currently valid OMB control number. The Federal Register Notice with a 60-day comment period soliciting comments on this collection of information was published at 89 FR 20300, March 21, 2024.

Affected Public: Individuals or Households.

Estimated Annual Burden: 5,640 hours.

Estimated Average Burden per Respondent: 25 minutes.

Frequency of Response: One time.

Estimated Number of Respondents: 13,534 per year.

Authority: 44 U.S.C. 3501 et seq.

Maribel Aponte,
VA PRA Clearance Officer, Office of Enterprise and Integration, Data Governance Analytics, Department of Veterans Affairs.

[FR Doc. 2024-12293 Filed 6-4-24; 8:45 am]

BILLING CODE 8320-01-P